DEPARTMENT OF THE INTERIOR

Fish and Wildlife Service

[FWS-HQ-ES-2020-N064; FF09E42000 189 FXES11130900000]

Endangered and Threatened Species; Issuance of Enhancement of Survival and Incidental Take Permits for Safe Harbor Agreements, Candidate Conservation Agreements, Habitat Conservation Plans, and Recovery Activities, January 1, 2019, Through December 31, 2019

AGENCY: Fish and Wildlife Service, Interior.

ACTION: Notice.

SUMMARY: We, the U.S. Fish and Wildlife Service, in accordance with the Endangered Species Act (ESA), provide a list to the public of permits issued under the ESA. With some exceptions, the ESA prohibits take of listed species unless a Federal permit is issued that authorizes or exempts the taking under the ESA. We provide this list to the public as a summary of our permit issuances for candidate conservation agreements with assurances, safe harbor agreements, habitat conservation plans, and recovery activities for calendar year 2019.

FOR FURTHER INFORMATION CONTACT: For general information about the ESA permit process, contact Amanda Murnane, via phone at 703-358-2469,viaemailatAmanda_murnane@fws.gov, or via the Federal Relay Service at 800-877-8339. For information on specific permits, see the contact information below in Permits Issued.

SUPPLEMENTARY INFORMATION: We, the U.S. Fish and Wildlife Service, in accordance with section 10(d) of the Endangered Species Act of 1973 (ESA; 16 U.S.C. 1531 et seq.), as amended, provide a list to the public of the permits issued under section 10(a)(1)(A) and 10(a)(1)(B) of the ESA. With some exceptions, the ESA prohibits take of listed species unless a Federal permit is issued that authorizes the taking, or the take is exempted through section 7 of the ESA. Under section 10(a)(1)(A) of the ESA, we issue enhancement of survival permits in conjunction with candidate conservation agreements with assurances (CCAAs) and safe harbor agreements (SHAs). Section 10(a)(1)(A) also authorizes recovery permits. Section 10(a)(1)(B) permits authorize take of listed species incidental to otherwise lawful activities associated with habitat conservation plans (HCPs). We provide this list to the public as a summary of our permit issuances for CCAAs, SHAs, HCPs, and recovery permits for calendar year 2019.

Background

Under the authority of section 10(a)(1)(A) of the ESA, we have issued enhancement of survival permits to conduct activities that provide a conservation benefit for endangered or threatened species, or for unlisted species should they become listed in the future, in response to permit applications that we received in conjunction with a SHA or a CCAA.

Recovery permits have been issued under ESA section 10(a)(1)(A) to allow for take as part of activities intended to foster the recovery of listed species, typically for scientific research in order to understand better the species' long-term survival needs.

Under ESA section 10(a)(1)(B), we may issue permits for any taking otherwise prohibited by ESA section 9 if such taking is incidental to, and not the purpose of, carrying out an otherwise lawful activity (known as an incidental take permit (ITP)) and the permit applicant submits a habitat conservation plan (HCP) that meets the permit issuance criteria under section 10(a)(2)(B). Typically, applicants seek an ITP to conduct activities such as residential and commercial development, infrastructure development or maintenance, and energy development projects that range in scale from small to landscape-level planning efforts.

The permits associated with SHAs, CCAAs, HCPs, and recovery activities that we issued between January 1 and December 31, 2019, are listed below.

Under section 10(a)(1)(A), we issued each permit only after we determined that it was applied for in good faith, that granting the permit would not be to the disadvantage of the listed species, or to the unlisted species should it be listed; that the proposed activities would benefit the recovery or the enhancement of survival of the species; and that the terms and conditions of the permits were consistent with the purposes and policy set forth in the ESA.

Under section 10(a)(1)(B), we issued permits only after we determined that the applicant is eligible and has submitted a complete application and HCP that fully meets the permit issuance criteria consistent with section 10(a)(2)(B).

Permits Issued

Hawaii, Idaho, Oregon (Except for the Klamath Basin), Washington, American Samoa, Commonwealth of the Northern Mariana Islands, Guam, and the Pacific Trust Territories

The following permits, sorted by type of permit or agreement and date issued in the table below, were applied for and issued by the Regional office responsible for section 10 permitting in the States and territories listed above.

HCPs, CCAAs, and SHAs

For more information about any of the following HCP, CCAA, or SHA permits, contact the field office that issued the permit by telephone at the appropriate telephone number:

Oregon Fish and Wildlife Office (OR): 503-231-6179

Washington Fish and Wildlife Office (WA): 360-753-9440.

Pacific Islands (HI): 808-792-9400.

Recovery Permits

For more information about any of the following recovery permits, contact the Recovery Permit Coordinator by email at PermitsR1ES@fws.gov or by telephone at 503-231-6131.

Permit No. | Permit type | Permittee | Date issued
TE13252D-0 | CCAA | GREEN DIAMOND RESOURCE COMPANY | 6/4/2019
TE49146D-0 | CCAA | WASHINGTON DEPARTMENT OF FISH AND WILDLIFE | 8/1/2019
TE49500D-0 | CCAA | WEYERHAEUSER COMPANY | 9/27/2019
TE49501D-0 | CCAA | OREGON DEPARMENT OF FORESTRY | 9/27/2019
TE49502D-0 | CCAA | ROSEBURG RESOURCES CO | 9/27/2019
TE49689D-0 | CCAA | HANCOCK FOREST MANAGEMENT | 9/27/2019
TE49690D-0 | CCAA | LONE ROCK TIMBER MANAGEMENT COMPANY | 9/27/2019
TE051040-4 | HCP | CYANOTECH CORPORATION | 6/1/2019
TE01054D-0 | HCP | CITY OF TUMWATER PUBLIC WORKS DEPARTMENT | 6/5/2019
TE27260A-1 | HCP | KAHEAWA WIND POWER II LLC | 9/4/2019
TE53063D-0 | HCP | TAWHIRI POWER LLC | 9/4/2019
TE59861A-1 | HCP | KAWAILOA WIND LLC | 9/4/2019
TE64153A-1 | HCP | AUWAHI WIND ENERGY LLC | 9/4/2019
TE15094D-0 | HCP | DAVIS and DAVIS FARMS JV | 10/7/2019
TE812521-1 | HCP | WASHINGTON DEPARTMENT OF NATURAL RESOURCES | 11/14/2019
TE59852D-0 | HCP | YAMHILL SOIL AND WATER CONSERVATION DISTRICT | 11/18/2019
TE52885D-0 | HCP | M—GOPHER LLC | 12/20/2019
TE08913A | Recovery | COLORADO STATE UNIVERSITY—FORT COLLINS | 2/20/2019
TE42195A | Recovery | U.S. DEPARTMENT OF THE NAVY, NAVAL BASE GUAM | 2/25/2019
TE85568C | Recovery | MID—COLUMBIA FISHERIES ENHANCEMENT GROUP | 3/18/2019
TE07859D | Recovery | WASHINGTON DEPARTMENT OF ECOLOGY | 3/28/2019
TE25955C | Recovery | MELISSA PRICE | 3/28/2019
TE91740A | Recovery | NATIONAL COUNCIL FOR AIR AND STREAM IMPROVEMENT, INC | 3/28/2019
TE003483 | Recovery | U.S. GEOLOGICAL SURVEY PACIFIC ISLAND ECOSYSTEMS RESEARCH CENTER | 4/17/2019
TE89863B | Recovery | OREGON STATE UNIVERSITY | 4/29/2019
TE058381 | Recovery | OLYMPIC NATIONAL PARK | 5/3/2019
TE58481B | Recovery | BIOTA PACIFIC ENVIRONMENTAL SCIENCES, INC | 5/16/2019
TE28331D | Recovery | CARDNO—GS | 5/20/2019
TE28609D | Recovery | USDA, APHIS, WILDLIFE SERVICES | 5/30/2019
TE011423 | Recovery | WASHINGTON DEPARTMENT OF ECOLOGY | 6/3/2019
TE019053 | Recovery | GIFFORD PINCHOT NATIONAL FOREST | 6/3/2019
TE49790B | Recovery | U.S. GEOLOGICAL SURVEY | 6/3/2019
TE56731B | Recovery | WOOD ENVIRONMENT & INFRASTRUCTURE SOLUTIONS, INC | 6/3/2019
TE64608B | Recovery | WASHINGTON DEPARTMENT OF NATURAL RESOURCES | 6/3/2019
TE44312A | Recovery | MOUNT RAINIER NATIONAL PARK | 6/6/2019
TE132842 | Recovery | NORTH CASCADES NATIONAL PARK SERVICE COMPLEX | 6/13/2019
TE24861C | Recovery | MOUNT RAINIER NATIONAL PARK | 6/17/2019
TE56898B | Recovery | BOWERMAN, WILLIAM J. | 6/17/2019
TE58586B | Recovery | DESCHUTES NATIONAL FOREST | 6/17/2019
TE001823 | Recovery | WALLOWA—WHITMAN NATIONAL FOREST | 6/24/2019
TE844468 | Recovery | CONFEDERATED TRIBES OF THE UMATILLA INDIAN RESERVATION | 6/24/2019
TE08964A | Recovery | FITZPATRICK, GREG S | 6/28/2019
TE38362D | Recovery | BUREAU OF RECLAMATION | 7/5/2019
TE13191A | Recovery | ROSS, DANA N | 7/17/2019
TE35731D | Recovery | LANAI RESORTS, LLC | 7/17/2019
TE60820B | Recovery | WILLAMETTE NATIONAL FOREST | 7/17/2019
TE168437 | Recovery | PUBLIC UTILITY DISTRICT #1 OF PEND OREILLE COUNTY | 8/5/2019
TE043628 | Recovery | INSTITUTE FOR APPLIED ECOLOGY | 8/15/2019
TE014798 | Recovery | COEUR D'ALENE TRIBE | 8/23/2019
TE844489 | Recovery | DESCHUTES NATIONAL FOREST | 8/23/2019
TE029401 | Recovery | OKANOGAN—WENATCHEE NATIONAL FOREST | 9/19/2019
TE48278D | Recovery | ARCHIPELAGO RESEARCH AND CONSERVATION | 10/3/2019
TE55327D | Recovery | U.S. FOREST SERVICE, PACIFIC NORTHWEST RESEARCH STATION | 10/21/2019
TE818627 | Recovery | OREGON DEPARTMENT OF FISH AND WILDLIFE | 11/21/2019
TE49499D-0 | SHA | DAN G. C. DORMAIER | 8/8/2019
TE41310D-0 | SHA | CRESTMONT FARM LLC | 9/13/2019
TE56472D-0 | SHA | ROSEBURG RESOURCES CO | 10/7/2019
TE85855B-2 | SHA | WEYERHAEUSER COMPANY | 10/7/2019
TE93256B-0 | SHA | OREGON DEPARTMENT OF FORESTRY | 10/7/2019
TE41329D-0 | SHA | JIM D. MYERS | 11/14/2019
TE26709A-1 | SHA | WASHINGTON DEPARTMENT OF NATURAL RESOURCES | 11/29/2019

Arizona, New Mexico, Oklahoma, and Texas

The following permits, sorted by type of permit or agreement and date issued in the table below, were applied for and issued by the Regional office responsible for section 10 permitting in the States listed above.

HCPs, CCAAs, and SHAs

For more information about any of the following HCP, CCAA, or SHA permits, contact the HCP, CCAA, or SHA Permit Coordinator by email at FW2_HCP_Permits@fws.gov or by telephone at 505-248-6651.

Recovery Permits

For more information about any of the following recovery permits, contact the Recovery Permit Coordinator by email at PermitsR2ES@fws.gov or by telephone at 505-248-6649.

Permit No. | Permit type | Permittee | Date issued
TE14926D-0 | HCP | MR. JERRY BARNHILL; DCP OPERATING COMPAN, LP | 3/27/2019
TE05384D-0 | HCP | MR. RICK L. PAYNE; FOUNDATION ENERGY MANAGEMENT, LLC | 3/27/2019
TE08500D-0 | HCP | MS. JILL BURKE; SANGUINE GAS EXPLORATION, LLC | 3/27/2019
TE14926D | HCP | DCP OPERATING COMPANY, LP | 3/27/2019
TE33772D-0 | HCP | MR. JOHN T. SANCHEZ; SILVER CREEK OIL AND GAS, LLC | 6/4/2019
TE33765D-0 | HCP | MR. JAMES V. STEGALL; VALERO PARTNERS WYNNEWOOD, LLC | 6/4/2019
TE33765D | HCP | VALERO PARTNERS WYNNEWOOD, LLC | 6/4/2019
TE33772D | HCP | SILVER CREEK OIL AND GAS, LLC | 6/4/2019
TE33684D-0 | HCP | MS. RUTH ANN MCCRARY; DAVIS—MCCRARY PROPERTY TRUST | 6/28/2019
TE113500-1 | HCP | BASTROP COUNTY; MR. PAUL PAPE | 7/1/2019
TE34898D | HCP | PUEBLO OF SANTA CLARA | 7/1/2019
TE113500 | HCP | BASTROP COUNTY/LOST PINES | 7/1/2019
TE41861D-0 | HCP | MR. CRAIG J. MEIS; TALLGRASS MLP OPERATIONS, LLC | 8/26/2019
TE45547D-0 | HCP | MR. CHRIS J. SEIDEN; NAVIGATOR ENERGY SERVICES C/O PRAIRIE ENVIRONMENTAL, LLC | 8/26/2019
TE42299D-0 | HCP | MS. PATTI HERSHEY; LCRA TRANSMISSION SERVICES CORPORATION | 10/19/2019
TE171255-1 | HCP | MR. STEVE LEWIS; CHICK-FIL-A | 11/21/2019
TE30430B | Recovery | UNIVERSITY OF HOUSTON—CLEAR LAKE/ENVT INSTITUTE OF HOUSTON | 2/6/2019
TE169770 | Recovery | NEW MEXICO OFFICE OF THE STATE ENGINEER/INTERSTATE STREAM COMMISSION | 2/6/2019
TE72370C | Recovery | GONZALES, KELLY MICHELLE | 2/8/2019
TE205904 | Recovery | HERITAGE ENVIRONMENTAL CONSULTANTS, LLC | 2/14/2019
TE61046B | Recovery | PEREZ , CHRISTINA MICHELLE | 2/25/2019
TE08563D | Recovery | KUHL, JOHN JOSEPH | 3/20/2019
TE830177 | Recovery | UNIVERSITY OF TEXAS MARINE SCIENCE INSTITUTE | 3/24/2019
TE181762 | Recovery | SEA TURTLE, INC | 3/25/2019
TE776123 | Recovery | TEXAS A&M UNIVERSITY—GALVESTON | 3/25/2019
TE37047A | Recovery | SEA WORLD OF TEXAS LLC | 3/25/2019
TE829995 | Recovery | DALLAS ZOO AND AQUARIUM | 3/25/2019
TE08500D | Recovery | SANGUINE GAS EXPLORATION, LLC | 3/27/2019
TE05384D | Recovery | FOUNDATION ENERGY MANAGEMENT, LLC | 3/27/2019
TE68189 | Recovery | ARCHAEOLOGICAL CONSULTING SERVICES, LTD | 4/1/2019
TE815409 | Recovery | NEW MEXICO DEPARTMENT OF GAME & FISH | 4/3/2019
TE84473 | Recovery | PUEBLO OF SANTA ANA | 4/15/2019
TE02164C | Recovery | UNIVERSITY OF ARIZONA | 4/15/2019
TE25790D | Recovery | STARK, KAITLIN ANN | 4/15/2019
TE23643 | Recovery | US ARMY, III CORPS AND FORT HOOD | 4/15/2019
TE38055 | Recovery | UNIVERSITY OF NEW MEXICO, DEPARTMENT OF BIOLOGY | 4/15/2019
TE07467D | Recovery | SCHMALZEL, ROBERT J | 4/19/2019
TE03800D | Recovery | BORDERLANDS RESTORATION NETWORK | 4/26/2019
TE90005C | Recovery | PATTERSON, RANDE R | 4/26/2019
TE15101D | Recovery | O'SHEA, LAUREN E | 4/26/2019
TE15107D | Recovery | EDWARDS, JOHN T | 4/26/2019
TE13584D | Recovery | MEJIA , KINDEL R | 4/26/2019
TE13585D | Recovery | DONATO, ERIN VALLEY | 4/26/2019
TE144755 | Recovery | REAGAN SMITH ENERGY SOLUTIONS, INC | 4/26/2019
TE03789D | Recovery | GARGARO, MADISON | 4/26/2019
TE836329 | Recovery | BLANTON & ASSOCIATES, INC | 5/2/2019
TE23162B | Recovery | HERMAN, ERIC L | 5/16/2019
TE39466 | Recovery | USGS—IDAHO COOPERATIVE FISH & WILDLIFE RESEARCH UNIT | 5/16/2019
TE834782 | Recovery | WESTLAND RESOURCES, INC | 5/20/2019
TE837751 | Recovery | U.S. BUREAU OF RECLAMATION—PHOENIX | 5/28/2019
TE53083 | Recovery | KUTZ, JULIE A | 6/1/2019
TE64431 | Recovery | AZTEC ENGINEERING GROUP, INC | 6/1/2019
TE1623 | Recovery | AMERICAN SOUTHWEST ICHTHYOLOGICAL RESEARCHERS | 6/1/2019
TE26393D | Recovery | GILLHAM, ERICK WAYNE | 6/3/2019
TE40137C | Recovery | CITY OF AUSTIN AND TRAVIS COUNTY—BALCONES CANYONLANDS PRESERVE | 6/4/2019
TE13914B | Recovery | COONS, JUSTIN HEATH | 6/7/2019
TE198057 | Recovery | BLACKBIRD ENVIRONMENTAL, LLC | 6/10/2019
TE53839 | Recovery | SME ENVIRONMENTAL CONSULTANTS | 6/12/2019
TE01837D | Recovery | MCMAHAN, MICHAEL S | 6/12/2019
TE81148C | Recovery | BEAUREGARD, NICHOLAS DAVID | 6/17/2019
TE822998 | Recovery | U.S. FOREST SERVICE | 6/18/2019
TE71101C | Recovery | RAMIREZ, ABBEY L | 6/27/2019
TE45236 | Recovery | SWCA, INCRPORATED | 7/15/2019
TE830271 | Recovery | GLADYS PORTER ZOO | 7/15/2019
TE794593 | Recovery | TEXAS STATE AQUARIUM | 7/15/2019
TE840727 | Recovery | NATIONAL PARK SERVICE | 7/15/2019
TE27797B | Recovery | LAINE, ROBIN E | 7/15/2019
TE33641D | Recovery | MAHONEY, SEAN M | 7/15/2019
TE53109 | Recovery | STEFFERUD, JEROME & SALLY | 7/15/2019
TE26439D | Recovery | MIHALJEVIC, JOSEPH RICHARD | 7/15/2019
TE19661B | Recovery | TETRA TECH, INC | 7/16/2019
TE25781D | Recovery | ATKINS NORTH AMERICA, INC | 7/16/2019
TE64710A | Recovery | JACKSON, JACOB THOMAS | 7/16/2019
TE34462C | Recovery | MENGEL, DENNIS L | 7/16/2019
TE25819D | Recovery | SHASHY, PETER SCOTT | 7/17/2019
TE00284A | Recovery | RAINWATER, STEPHANIE KAYE | 7/17/2019
TE842583 | Recovery | LA TIERRA ENVIRONMENTAL CONSULTING | 7/17/2019
TE33632D | Recovery | GRAHAM, SEAN P | 7/23/2019
TE829996 | Recovery | HOUSTON ZOO, INC | 7/31/2019
TE33639D | Recovery | ENVIRONMENAL CONSULTANTS OF HABITATS AND ORGANISMS, LLC | 8/1/2019
TE106555 | Recovery | FISCHER, CLAY V | 8/5/2019
TE26389D | Recovery | PATTERSON, RANDE R | 8/5/2019
TE216075 | Recovery | HEANEY, MARTIN R | 8/6/2019
TE63651A | Recovery | POWER ENGINEERS, INC | 8/9/2019
TE49858D | Recovery | ERO RESOURCES CORPORATION | 8/19/2019
TE841353 | Recovery | BLAIR WILDLIFE CONSULTING, LLC | 8/21/2019
TE43322B | Recovery | NOWAK, ERIKA M | 8/30/2019
TE78189 | Recovery | ADKINS CONSULTING, INC | 8/30/2019
TE92407A | Recovery | RAVEN ENVIRONMENTAL SERVICES, INC | 8/30/2019
TE813088 | Recovery | U.S. BUREAU OF RECLAMATION | 9/4/2019
TE76050 | Recovery | MCALESTER ARMY AMMUNITION PLANT | 9/5/2019
TE51832 | Recovery | PHOENIX ZOO | 9/30/2019
TE170625 | Recovery | HOWARD, DANIEL RAY | 10/7/2019
TE51819 | Recovery | FORT WORTH ZOOLOGICAL PARK | 10/11/2019
TE25792D | Recovery | NELSON, PAMELA JEAN | 10/22/2019
TE28605 | Recovery | SWCA ENVIRONMENTAL CONSULTANTS—FLAGSTAFF | 10/22/2019
TE69320 | Recovery | GROUNDWATER & ENVIRONMENTAL SERVICES INC | 10/22/2019
TE35437B | Recovery | USDA FOREST SERVICE—SANTA FE NATIONAL FOREST | 10/28/2019
TE44359 | Recovery | ENERCON SERVICES, INC | 10/28/2019
TE206016 | Recovery | MIDDICK, ANDREW R | 10/28/2019
TE33893B | Recovery | PIERCE, BENJAMIN ALLEN | 10/28/2019
TE50037D | Recovery | BABAYAN, KEVORK V | 10/28/2019
TE168189 | Recovery | RYLANDER, REBEKAH JANELLE | 10/29/2019
TE52947D | Recovery | SOUTHWESTERN ECOLOGICAL RESEARCH COMPLANY, LLC | 11/4/2019
TE59556D | Recovery | SANCHEZ, AUDREY A | 11/22/2019
TE00101D | Recovery | HAYES, HANNAH L | 11/25/2019
TE66226 | Recovery | MOORS, AMANDA K | 11/29/2019
TE60125 | Recovery | SALT RIVER PROJECT AGRICULTURAL IMPROVEMENT & POWER DISTRICT | 12/2/2019
TE62371D | Recovery | SALT RIVER PROJECT AGRICULTURAL IMPROVEMENT AND POWER DISTRICT | 12/3/2019
TE35437A | Recovery | TULSA DISTRICT U.S. ARMY CORPS OF ENGINEERS | 12/9/2019
TE40088B | Recovery | FREY, JENNIFER K | 12/9/2019
TE798998 | Recovery | HORIZON ENVIRONMENTAL SERVICES, INC | 12/10/2019
TE800611 | Recovery | SWCA, INCRPORATED | 12/13/2019
TE207369 | Recovery | U.S. ARMY GARRISON—FT. HUACHUCA | 12/13/2019
TE57478D | Recovery | PUTNAM, STEPHANIE SEALON | 12/13/2019
TE819451 | Recovery | TRAVIS COUNTY TRANSPORTATION & NATURAL RESOURCES | 12/13/2019
TE57474D | Recovery | LASSITER, TIMOTHY KYLE | 12/13/2019
TE232639 | Recovery | DESCO ENVIRONMENTAL CONSULTANTS, LP | 12/13/2019
TE26800B | Recovery | U.S. FOREST SERVICE | 12/13/2019
TE226653 | Recovery | THE ARBORETUM AT FLAGSTAFF | 12/18/2019
TE17907C | Recovery | LANDHAWK CONSULTING LLC | 12/18/2019
TE814933 | Recovery | TEXAS PARKS & WILDLIFE DEPARTMENT | 12/18/2019
TE62108D | Recovery | TUTTLE, STUART R | 12/20/2019
TE800900 | Recovery | LOWER COLORADO RIVER AUTHORITY | 12/31/2019
TE133286-1 | SHA | CITY OF TEMPE | 5/1/2019
TE75475A-1 | SHA | MS. JENNIFER CALLES; CITY OF PHOENIX | 9/6/2019

Illinois, Indiana, Iowa, Michigan, Minnesota, Missouri, Ohio, and Wisconsin

The following permits, sorted by type of permit or agreement and date issued in the table below, were applied for and issued by the Regional office responsible for section 10 permitting in the states listed above.

HCPs

For more information about any of the HCP permits, contact the field office that issued the permit by telephone at Illinois-Iowa Ecological Services Field Office, 309-757-5800 or Bloomington Ecological Services Field Office, 812-334-4261.

Recovery Permits

For more information about any of the following recovery permits, contact the Recovery Permit Coordinator by email at PermitsR3ES@fws.gov or by telephone at 612-713-5343.

Permit No. | Permit type | Permittee | Date issued
TE85617C-0 | HCP | HEADWATERS WIND FARM LLC | 6/4/2019
TE41434D-0 | HCP | MIDAMERICAN ENERGY COMPANY | 11/20/2019
TE95096C | Recovery | SCHANZ, DUNCAN S | 2/5/2019
TE90423C | Recovery | BARNETT, SHAUGHN E | 2/11/2019
TE38087B | Recovery | MILLER, JESSICA L | 3/8/2019
TE85231B | Recovery | KALAMAZOO NATURE CENTER | 3/25/2019
TE38842A | Recovery | REDWING ECOLOGICAL SERVICES, INC | 3/27/2019
TE06846A | Recovery | SMITHSONIAN INSTITUTION | 3/29/2019
TE64239B | Recovery | LIGHT, NATHANAEL R | 3/29/2019
TE15676C | Recovery | UNIVERSITY OF ILLINOIS | 4/10/2019
TE53616C | Recovery | ILLINOIS NATURAL HISTORY SURVEY | 4/15/2019
TE212440 | Recovery | BAT CONSERVATION AND MANAGEMENT, INC | 4/17/2019
TE809630 | Recovery | KURTA, ALLEN | 4/17/2019
TE08501D | Recovery | ROBERTS, ALYSSA ELLEN | 4/17/2019
TE212427 | Recovery | ECOLOGY & ENVIRONMENT, INC | 4/18/2019
TE26854C | Recovery | HYZY, BRENNA ANNE | 4/19/2019
TE71737A | Recovery | KLOCEK, ROGER A | 4/19/2019
TE24566D | Recovery | SMEENK, NICHOLAS A | 4/22/2019
TE99056B | Recovery | WELLS, MARION ELIZABETH | 4/24/2019
TE01835D | Recovery | SCOTT, MARIAH W | 4/25/2019
TE81968B | Recovery | HART, CURTIS M | 4/30/2019
TE39719C | Recovery | FOREST COUNTY POTAWATOMI COMMUNITY | 5/6/2019
TE03494B | Recovery | GAI CONSULTANTS, INC | 5/14/2019
TE11145C | Recovery | KLEINSCHMIDT, LISA | 5/14/2019
TE28573D | Recovery | RUSK, ADAM R | 5/14/2019
TE81122C | Recovery | THREE RIVERS PARK DISTRICT | 5/15/2019
TE99650C | Recovery | DUNFORD, DALE P | 5/21/2019
TE13580D | Recovery | WILSON, JULIA ROSE | 5/21/2019
TE28570D | Recovery | MIDWEST NATURAL RESOURCES, INC | 5/21/2019
TE98111A | Recovery | OHIO DEPARTMENT OF TRANSPORTATION | 5/23/2019
TE151107 | Recovery | REDWING ECOLOGICAL SERVICES, INC | 6/3/2019
TE206781 | Recovery | ECOANALYSTS, INC | 6/7/2019
TE28559D | Recovery | RADFORD'S RUN WIND FARM, LLC | 6/26/2019
TE06130D | Recovery | GRATTON, CLAUDIO | 6/26/2019
TE37065D | Recovery | CARLYLE LAKE PROJECT OFFICE—USACE | 6/28/2019
TE33518D | Recovery | AUCKLAND, JULIA NELL | 7/8/2019
TE33515D | Recovery | ROSENBERGER, DEREK WILLIAM | 7/8/2019
TE33516D | Recovery | WEN, AI | 7/8/2019
TE38821A | Recovery | STANTEC CONSULTING SERVICES | 7/9/2019
TE38856A | Recovery | SKELLY AND LOY, INC | 7/10/2019
TE106217 | Recovery | TOLEDO ZOOLOGICAL SOCIETY | 7/10/2019
TE130900 | Recovery | ENVIROSCIENCE, INC | 7/16/2019
TE33374D | Recovery | GEI CONSULTANTS OF MICHICAN, P.C | 7/25/2019
TE33366D | Recovery | HURON PINES | 7/25/2019
TE02373A | Recovery | ENVIRONMENTAL SOLUTIONS AND INNOVATIONS, INC | 7/29/2019
TE11170C | Recovery | CABLE, ASHLEIGH BREANNA | 8/20/2019
TE64079B | Recovery | MINNESOTA ZOOLOGICAL GARDEN | 8/20/2019
TE14588C | Recovery | SMITH, DANE A | 8/30/2019
TE40843D | Recovery | KLOSTERMEIER, DEREK W | 9/9/2019
TE85294C | Recovery | WOLF, AMY T | 9/16/2019
TE46522D | Recovery | ENZ, JOHN J | 9/17/2019
TE35973D | Recovery | PATTERSON, ALEX J | 9/18/2019
TE41669D | Recovery | STRAYER, DAVID L | 9/19/2019
TE24570D | Recovery | KLINE, SEAN T | 9/30/2019
TE06809A | Recovery | USDA FOREST SERVICE | 10/17/2019
TE49331D | Recovery | BRODNICK, SHANE J | 10/21/2019
TE41671D | Recovery | CARLSON, BRIAN R | 11/25/2019
TE49715D | Recovery | VARNER, JARED I | 11/25/2019

Alabama, Arkansas, Florida, Georgia, Kentucky, Louisiana, Mississippi, North Carolina, South Carolina, and Tennessee, Commonwealth of Puerto Rico, and the U.S. Virgin Islands

The following permits, sorted by type of permit or agreement and date issued in the table below, were applied for and issued by the Regional office responsible for section 10 permitting in the States and territories listed above.

HCPs

For more information about any of the following HCPs, contact the HCP Permit Coordinator by email at PermitsR4ES@fws.gov or by telephone at 404-679-7140.

Recovery Permits

For more information about any of the recovery permits, contact the Recovery Permit Coordinator by email at PermitsR4ES@fws.gov or by telephone at 404-679-7140.

Permit No. | Permit type | Permittee | Date issued
TE05530D | HCP | HELTON, KATHY A | 3/6/2019
TE28391D | HCP | KNOEPFLEIN, DAVID AND DOROTHY | 3/6/2019
TE26499D | HCP | SUN DOGS LLC | 3/7/2019
TE28114D | HCP | GARMON, MICHELLE RENEE | 3/15/2019
TE087219 | HCP | BURTON, CHARLES KENNETH | 3/28/2019
TE28106D | HCP | ACADIAN DESIGNS, LLC | 4/5/2019
TE94085C | HCP | PALMETTO LAKE WALES—HWY 60, LLC | 4/9/2019
TE94080C | HCP | FLORIDA BRAMINGHAM, INC | 4/12/2019
TE81666B | HCP | JKAF INVESTMENTS, LLC, KATHRYN KENDRICK DAVIDOW TRUST | 4/12/2019
TE96934B | HCP | MICHAEL MILLER | 4/18/2019
TE26493D | HCP | NORWOOD, LISA B | 4/18/2019
TE12906D | HCP | NUCOR STEEL FLORIDA, INC | 4/19/2019
TE95387C | HCP | RYAN, JAMES PATRICK | 4/19/2019
TE33505D | HCP | FREDERICK, THOMAS B. & JULIA A | 4/19/2019
TE078832 | HCP | PANOS, KENNETH J | 4/26/2019
TE36007D | HCP | WALTON, JOHN G | 5/16/2019
TE39651D | HCP | MOORE, CAMERON G | 5/23/2019
TE39970D | HCP | HARRINGTON, CRAIG H | 5/30/2019
TE38041D | HCP | BAKER, JANIE D | 5/30/2019
TE37575D | HCP | LEMAY, LISA K | 5/30/2019
TE13200D | HCP | SUNTERRA COMMUNITIES, LLC | 6/14/2019
TE095292 | HCP | SAMSON, SCOTT | 6/20/2019
TE21556D | HCP | DUKE ENERGY FLORIDA, LLC | 6/21/2019
TE69161C | HCP | CITY OF GROVELAND | 6/25/2019
TE21560D | HCP | ORANGE COUNTY UTILITIES | 6/26/2019
TE17462A | HCP | RESOURCE MANANGEMENT SERVICE, LLC | 6/27/2019
TE66783A | HCP | CONSERVATION RESOURCE PARTNERS LLC | 6/27/2019
TE37997D | HCP | STINE, STAN | 7/1/2019
TE155088 | HCP | CL INVESTMENTS, LLC | 7/18/2019
TE089051 | HCP | BRIGGS, ANNE C | 7/25/2019
TE83981C | HCP | JOHN D. LIGGIO | 7/25/2019
TE46243D | HCP | BAILEY, TANSZY L | 8/1/2019
TE00183C | HCP | KANDRAC, GILBERT ANDREW | 8/2/2019
TE46239D | HCP | STEEL BRIDGE PROPERTIES LLC | 8/28/2019
TE109742 | HCP | POLING, DAVID W | 8/29/2019
TE52955D | HCP | PIPPIN, WILLIAM H | 9/9/2019
TE49703D | HCP | DKM PROPERTIES | 9/9/2019
TE46241D | HCP | SEDRAK, FAWZY | 9/9/2019
TE52953D | HCP | LOHMEIER, MELISSA F | 9/11/2019
TE28392D | HCP | PRICKETT, DANIEL M | 9/19/2019
TE12892D | HCP | MOORE, JOHNNY | 9/19/2019
TE087069 | HCP | KENDLE, NOREEN | 10/8/2019
TE073987 | HCP | BERRY, TIMOTHY WAYNE | 10/18/2019
TE28046D | HCP | CG LAND SERVICES, LLC | 10/18/2019
TE102005 | HCP | SHORES LLC, BREEZY | 10/28/2019
TE85629A | HCP | POTLATCHDELTIC CORPORATION | 11/25/2019
TE56446D | HCP | STILLWATER CAPITAL ASSESTS, LLC | 11/26/2019
TE50012D | HCP | PALMETTO LAKE PLACID LAKES BLVD., LLC | 12/6/2019
TE50084D | HCP | PALMETTO LAKE PLACID—WASHINGTON BLVD., LLC | 12/6/2019
TE129413 | HCP | GULF INVESTMENTS, LLC, CREEK | 12/6/2019
TE218333 | HCP | GULF INVESTMENTS LLC, CREEK | 12/6/2019
TE41049D | HCP | KBC DEVELOPMENT | 12/10/2019
TE48273D | HCP | SUNBEAM PROPERTIES, INC | 12/27/2019
TE16689D | Recovery | MICHELS, JOHN S | 3/4/2019
TE26416D | Recovery | JACK, DAVID A | 3/6/2019
TE26360D | Recovery | OLSON, MICHAEL KIRK | 3/19/2019
TE26537D | Recovery | ROUSH, JOSHUA E | 3/20/2019
TE12373D | Recovery | THE WILDCENTER | 3/20/2019
TE26361D | Recovery | DANIELSON, TODD ERIC | 3/22/2019
TE26418D | Recovery | MOORE, SPENCER OSBURN | 3/26/2019
TE33187D | Recovery | MCCLISTER, MICHAEL S | 4/1/2019
TE33225D | Recovery | DEPHILLIPS, GRANT F | 4/1/2019
TE33496D | Recovery | NOLAN, TYLER J | 4/15/2019
TE31833D | Recovery | BOLTER, SCOTT MITCHEL | 4/19/2019
TE26359D | Recovery | ENDERSON, RITT JAMES | 6/3/2019
TE36886D | Recovery | MANN, CHARLES G | 6/5/2019
TE36931D | Recovery | LIERZ, HAIDYN LEIGH | 6/10/2019
TE33509D | Recovery | MARSHALL, SAMUEL D | 6/10/2019
TE28638D | Recovery | MITCHEM, BRENT L | 6/10/2019
TE35022D | Recovery | ENDERSON, RITT JAMES | 6/14/2019
TE44410D | Recovery | ELY, RICHARD A | 7/2/2019
TE46519D | Recovery | COOK MUSEUM OF NATURAL SCIENCE | 7/30/2019
TE52948D | Recovery | SHARP, BRIAN E | 8/27/2019
TE53043D | Recovery | PAULIUKONIS, AUDRIUS P | 9/5/2019
TE53670D | Recovery | SCHWINDT, DANIEL JAMES | 9/6/2019
TE48296D | Recovery | WALDO, CHRISTOPHER W | 9/6/2019
TE54493D | Recovery | KINTNER, JASON E | 9/17/2019
TE52125D | Recovery | MCDONAGH, OLIVER | 9/17/2019
TE55283D | Recovery | PAIGE, DEANNA MARIE | 10/21/2019
TE54646D | Recovery | ONG, ALAN P | 10/21/2019
TE56448D | Recovery | MACDONALD, DONALD SCOTT | 11/18/2019
TE59335D | Recovery | OPPER, STEVEN DANIEL | 11/19/2019
TE61214D | Recovery | GREAT BASIN SERPENTARIUM, LLC | 11/21/2019
TE61248D | Recovery | FOX, BRET E | 11/21/2019
TE61241D | Recovery | NIMMALAGADDA, SHANMUKH SIDDHARTH | 11/21/2019
TE57429D | Recovery | SOUDER, LEWIS REED | 11/21/2019
TE56303D | Recovery | PADGETT, REGINALD J | 11/21/2019
TE62555D | Recovery | PUIGDOMENECH, JERALD ANTHONY | 12/17/2019
TE62081D | Recovery | JACK, DAVID A | 12/17/2019
TE78383C | Recovery | CASTO, JOEL PATRICK | 2/4/2019
TE096554 | Recovery | ROBINSON, JAMES B | 2/5/2019
TE171594 | Recovery | MARTIN, CRAIG D | 2/8/2019
TE146761 | Recovery | BIG CYPRESS NATIONAL PRESERVE | 2/26/2019
TE075916 | Recovery | VIRZI, THOMAS | 2/28/2019
TE139474 | Recovery | FTN ASSOCIATES, LTD | 3/21/2019
TE049738 | Recovery | THIRD ROCK CONSULTANTS, LLC | 3/25/2019
TE94849B | Recovery | COPPERHEAD ENVIRONMENTAL CONSULTING | 3/28/2019
TE98274C | Recovery | EVERGLADES NATIONAL PARK | 4/4/2019
TE22311A | Recovery | GEORGE, ANNA L | 4/9/2019
TE80381A | Recovery | DEPARTMENT OF DEFENSE (ARMY) | 4/11/2019
TE81202C | Recovery | MALTBA, MICHAEL GRANT | 4/17/2019
TE88797B | Recovery | NOLDER, AMBER DAWN | 4/18/2019
TE075913 | Recovery | RISCH, THOMAS S | 4/19/2019
TE002507 | Recovery | FLORIDA FOREST SERVICE | 4/23/2019
TE77472C | Recovery | STREAMTECHS, LLC | 4/29/2019
TE102418 | Recovery | FLORIDA ARMY NATIONAL GUARD | 5/8/2019
TE092945 | Recovery | FLORIDA POWER & LIGHT COMPANY | 5/10/2019
TE75560C | Recovery | HAWKINS, JEFFREY ALLEN | 5/13/2019
TE051429 | Recovery | MOSAIC FERTILIZER, LLC | 5/21/2019
TE76455C | Recovery | NORTH CAROLINA STATE UNIVERSITY | 5/21/2019
TE100012 | Recovery | SHARE THE BEACH | 6/5/2019
TE84861C | Recovery | POWERSOUTH ENERGY COOPERATIVE | 6/6/2019
TE86956C | Recovery | DAVIS, ROBERT ALANI | 6/7/2019
TE97308A | Recovery | HARRIS, JOHN L | 6/9/2019
TE32397A | Recovery | GODWIN, JAMES C | 6/10/2019
TE676379 | Recovery | NOAA NATIONAL MARINE FISHERIES SERVICE | 6/14/2019
TE89030C | Recovery | STRONG, MARK T | 6/18/2019
TE88796C | Recovery | GEOLOGICAL SURVEY OF ALABAMA | 6/18/2019
TE125521 | Recovery | DEPARTMENT OF NATURAL AND ENVIRONMENTAL RESOURCES | 6/19/2019
TE171518 | Recovery | OUACHITA NATIONAL FOREST | 7/11/2019
TE99171C | Recovery | CHUPP, ADAM DANIEL | 7/11/2019
TE06701D | Recovery | ALABAMA FORESTRY FOUNDATION | 7/16/2019
TE12379D | Recovery | MCCLEERY, ROBERT A | 7/18/2019
TE041314 | Recovery | U.S. ARMY—FORT POLK | 7/31/2019
TE087191 | Recovery | SANDHILLS ECOLOGICAL INSTITUTE | 8/5/2019
TE02332D | Recovery | GILLEY, MICHELLE | 8/5/2019
TE02166C | Recovery | BRYANT, ZOE DEANNA | 8/7/2019
TE35594A | Recovery | ALABAMA POWER COMPANY | 8/9/2019
TE16876D | Recovery | CLEMENS, KRISTEN E | 8/22/2019
TE48049B | Recovery | CUNNINGHAM, KATHRYN ANN | 8/22/2019
TE12370D | Recovery | LUTSCH, KELLY E | 8/23/2019
TE55292B | Recovery | UNIVERSITY OF FLORIDA | 8/27/2019
TE51145B | Recovery | ASHTON, KYLE G | 8/28/2019
TE94704A | Recovery | BROWN, DOROTHY C | 8/29/2019
TE20276D | Recovery | ROYAL BOTANIC GARDENS, KEW | 9/3/2019
TE97394A | Recovery | COUCH, ZACHARY L | 9/11/2019
TE12174D | Recovery | ALLEN, JOSHUA M | 9/11/2019
TE07525D | Recovery | PORTER, BRUCE S | 9/11/2019
TE48576B | Recovery | WOOD, CARSON D | 9/16/2019
TE88778B | Recovery | LAMB, JOHN WESLEY | 9/18/2019
TE64393C | Recovery | VANASSE HANGEN BRUSTLIN, INC | 9/24/2019
TE42291D | Recovery | JOHANSEN, REBECCA BLANTON | 9/26/2019
TE21276D | Recovery | CARPENTER, CHRISTOPHER SCOTT | 10/2/2019
TE33227D | Recovery | WISNIEWSKI, JASON M | 10/4/2019
TE807672 | Recovery | CARTER, J.H | 10/20/2019
TE38642A | Recovery | AVIAN RESEARCH AND CONSERVATION INSTITUTE | 11/1/2019
TE121400 | Recovery | FORT WORTH ZOO | 11/8/2019
TE30127D | Recovery | NATIONAL PARK SERVICE | 12/9/2019
TE56749B | Recovery | MOORE, PATRICK R | 12/11/2019
TE98596B | Recovery | VESELKA, SARAH E | 12/19/2019
TE78148C | Recovery | DINKINS, BARBARA J | 12/28/2019
TE18986C | Recovery | NORTH CAROLINA ZOOLOGICAL PARK | 12/29/2019

Connecticut, Delaware, District of Columbia, Maine, Maryland, Massachusetts, New Hampshire, New Jersey, New York, Pennsylvania, Rhode Island, Vermont, Virginia, and West Virginia

HCPs

For more information about the following HCP, contact the HCP Permit Coordinator by telephone at 413-253-8200.

Recovery Permits

For more information about any of the recovery permits, contact the Recovery Permit Coordinator by email at PermitsR5ES@fws.gov or by telephone at 413-253-8212.

Permit No. | Permit type | Permittee | Date issued
TE01281C-1 | HCP | MASSACHUSETTS DIVISION OF FISHERIES AND WILDLIFE | 6/28/2019
TE20359D | Recovery | UNIVERSITY OF RHODE ISLAND | 3/28/2019
TE35010D | Recovery | STATE UNIVERSITY OF NEW YORK ESF | 3/28/2019
TE01086D | Recovery | VIRGINIA DEPARTMENT OF GAME AND INAND FISHERIES | 4/4/2019
TE29073D | Recovery | UNIVERSITY OF MAINE | 5/7/2019
TE37632D | Recovery | U.S. FOREST SERVICE | 6/10/2019
TE37631D | Recovery | HELEN HAYS | 6/13/2019
TE53603D | Recovery | WEST VIRGINIA DIVISION OF NATURAL RESOURCES | 10/25/2019
TE53724D | Recovery | AUBURN UNIVERSITY | 11/8/2019

Colorado, Kansas, Montana, Nebraska, North Dakota, South Dakota, Utah, and Wyoming

The following permits, sorted by type of permit or agreement and date issued in the table below, were applied for and issued by the Regional office responsible for section 10 permitting in the States listed above.

HCP

For more information about the HCP permit, contact the HCP Permit Coordinator by telephone at 303-236-7905.

Recovery Permits

For more information about any of the following recovery permits, contact the Recovery Permit Coordinator by email at PermitsR6ES@fws.gov, or by telephone at 303-236-4224.

Permit No. | Permit type | Permittee | Date issued
TE72710C | HCP | NEBRASKA PUBLIC POWER DISTRICT | 6/12/2019
TE186282 | Recovery | NEBRASKA DEPARTMENT OF ROADS | 2/5/2019
TE91970C | Recovery | U.S. ARMY CORPS OF ENGINEERS | 2/6/2019
TE103272 | Recovery | VIRGINIA POLYTECHNIC INSTITUTE | 2/8/2019
TE26443D | Recovery | TETON CONSERVATION DISTRICT | 2/19/2019
TE51718 | Recovery | SAVAGE & SAVAGE, INC | 2/19/2019
TE209347 | Recovery | THE NATURE CONSERVANCY | 2/25/2019
TE13623D | Recovery | WHITNEY, JAMES E | 3/7/2019
TE191853 | Recovery | NATIONAL PARK SERVICE | 3/7/2019
TE03159C | Recovery | MONTANA NATURAL HERITAGE PROGRAM | 3/25/2019
TE67112A | Recovery | WESTWATER ENGINEER INC | 3/25/2019
TE96435A | Recovery | STEGER, LAURA DEANNE | 3/25/2019
TE12893D | Recovery | HALPIN, ALISA LYNN | 4/22/2019
TE37762D | Recovery | JEFFERSON COUNTY OPEN SPACE | 5/8/2019
TE85365C | Recovery | JACOBS ENGINEERING | 5/13/2019
TE70027 | Recovery | UNIVERSITY OF NEBRASKA | 5/17/2019
TE32556D | Recovery | YARBROUGH, STEPHEN L | 5/17/2019
TE49748 | Recovery | UTAH STATE UNIVERSITY | 5/17/2019
TE94832 | Recovery | U.S. ARMY CORPS OF ENGINEERS, OMAHA DISTRICT | 5/17/2019
TE131638 | Recovery | THE LOVELAND LIVING PLANET AQUARIUM | 5/17/2019
TE26536D | Recovery | U.S. ARMY CORPS OF ENGINEERS, JOHN MARTIN RESERVOIR | 5/21/2019
TE57401 | Recovery | BUREAU OF LAND MANAGEMENT | 5/31/2019
TE82615 | Recovery | SAGE ECOLOGICAL SERVICES | 5/31/2019
TE131639 | Recovery | U.S. FOREST SERVICE, NEBRASKA NATIONAL FOREST AND GRASSLANDS | 6/3/2019
TE37601D | Recovery | UNIVERSITY OF WYOMING | 6/3/2019
TE67486 | Recovery | UNIVERSITY OF NEBRASKA—LINCOLN | 6/11/2019
TE27300B | Recovery | LAWRENCE, CINDY | 6/18/2019
TE70038 | Recovery | U.S. FOREST SERVICE | 6/25/2019
TE69553 | Recovery | USDA FOREST SERVICE, NEBRASKA NATIONAL FORESTS AND GRASSLANDS | 7/15/2019
TE86083C | Recovery | USDA FOREST SERVICE—PINE RIDGE RANGER DISTRICT | 7/15/2019
TE67734 | Recovery | NATIONAL PARK SERVICE | 7/16/2019
TE26405D | Recovery | HANSON, MIRANDA J | 7/19/2019
TE44463D | Recovery | ECOLOGY AND ENVIRONMENT, INC | 7/19/2019
TE61451C | Recovery | HAMMESFAHR, AMY M | 7/26/2019
TE13508D | Recovery | TURNER ENDANGERED SPECIES FUND | 8/26/2019

Alaska

No section 10 permits were applied for. For more information about either of the recovery permits, contact the Permit Coordinator, by email at PermitsR7ES@fws.gov or by telephone at 907-786-3323.

California, Nevada, and the Klamath Basin Portion of Oregon

The following permits, sorted by type of permit or agreement and date issued in the table below, were applied for and issued by the Regional office responsible for section 10 permitting in the States and region listed above.

HCPs and SHAs

For more information about any of the permits for HCPs or SHAs, contact the HCP Permit Coordinator by email at dan_cox@fws.gov.

Recovery Permits

For more information about any of the following recovery permits, contact the Recovery Permit Coordinator by email at PermitsR8ES@fws.gov or by telephone at 916-414-6464.

Permit No | Permit type | Permittee | Date issued
TE18600D | HCP | METROPOLITAN WATER DISTRICT | 2/1/2019
TE22477D | HCP | OC RECLAMATION LLC | 2/5/2019
TE97826C | HCP | LOTYSCH, MATTHEW AND AMURAO, CLAIRE | 2/8/2019
TE38326D | HCP | WOLF, KYLE J | 5/2/2019
TE41057D | HCP | PHILLIPS 66 COMPANY PIPELINE 352X4 ABANDONMENT PROJECT | 5/17/2019
TE35886D | HCP | SOUTH SACRAMENTO HCP PERMITTEES | 6/12/2019
TE43702D | HCP | GREEN DIAMOND RESOURCE COMPANY | 6/13/2019
TE93385C | HCP | PACIFIC GAS AND ELECTRIC | 7/1/2019
TE38360D | HCP | MARTINEZ, MARIO | 7/1/2019
TE93388C | HCP | PACIFIC GAS AND ELECTRIC | 7/18/2019
TE94732A | HCP | TAYLOR, FRED | 7/25/2019
TE58740C | HCP | PACIFIC GAS AND ELECTRIC | 8/20/2019
TE52898D | HCP | 93-129 LTD | 8/22/2019
TE52898D | HCP | 93-129 LTC | 8/27/2019
TE53923D | HCP | CANYON MESA SOLAR, LLC | 9/6/2019
TE45657D | HCP | HDSI, LLC | 10/23/2019
TE58523D | HCP | TERRA FIRMA LONG BEACH, LLC | 10/24/2019
TE839896 | Recovery | REED, SAMUEL J | 1/31/2019
TE162656 | Recovery | MC CONNEL, PATRICK O'TOOLE | 1/31/2019
TE99114C | Recovery | CUNNINGHAM, DAWN MARIE | 1/31/2019
TE98090C | Recovery | FISHBIO | 1/31/2019
TE85258C | Recovery | KLINKOWSKI, CHRISTINE ALYSSA | 1/31/2019
TE80415C | Recovery | HORWATH, SARAH | 1/31/2019
TE72577C | Recovery | VOGT, ROBERT ANDREW | 1/31/2019
TE797234 | Recovery | LSA ASSOCIATES INCORPORATED | 2/4/2019
TE203081 | Recovery | LABONTE, JOHN P | 2/4/2019
TE025732 | Recovery | SWEET, SAMUEL SPENDER | 2/4/2019
TE74980C | Recovery | PLUMAS AUDUBON SOCIETY | 2/4/2019
TE769304 | Recovery | HALSTEAD, JEFFREY A | 2/6/2019
TE90002A | Recovery | WONG, TODD J | 2/6/2019
TE206822 | Recovery | SHOMO, BRIAN S | 2/6/2019
TE115373 | Recovery | BUSBY, DARIN ANDREW | 2/7/2019
TE781084 | Recovery | HAYWORTH, ANITA M | 2/7/2019
TE29658A | Recovery | DUNN, CINDY MARCELLA | 2/7/2019
TE79190C | Recovery | LOPEZ, RYAN P | 2/7/2019
TE051248 | Recovery | LEMONS, PAUL M | 2/11/2019
TE71121C | Recovery | ROGERS, COLTON MICHAEL | 2/11/2019
TE221295 | Recovery | MENDOZA, ANGELICA | 2/11/2019
TE71409C | Recovery | WOODRUFF, JULIANA M | 2/11/2019
TE195305 | Recovery | AGUILAR, ANDRES | 2/11/2019
TE006328 | Recovery | DRAKE, MICHAEL B | 2/11/2019
TE831207 | Recovery | NATURAL RESOURCES ASSESSMENT, INC | 2/11/2019
TE217663 | Recovery | DALKEY, ANN M | 2/11/2019
TE72567C | Recovery | VALLER, JACKSON B | 2/12/2019
TE02474D | Recovery | TUPEN, GAYLENE ROSEANNE | 2/13/2019
TE75776C | Recovery | MADDEN, MELANIE C | 2/20/2019
TE115370 | Recovery | DAYTON, GAGE H | 2/27/2019
TE85084C | Recovery | BROWN, DUSTIN RYAN | 3/6/2019
TE02578B | Recovery | STELTENRICH, CRAIG P | 3/6/2019
TE003314 | Recovery | KLAMATH FALLS FISH AND WILDLIFE OFFICE | 3/11/2019
TE12771D | Recovery | SWEET, LYNN C | 3/13/2019
TE85448A | Recovery | EAST BAY ZOOLOGICAL SOCIETY | 3/18/2019
TE101743 | Recovery | EDELSTEIN, DANIEL | 3/26/2019
TE02478D | Recovery | JACKSON, JENNIFER S | 3/26/2019
TE052744 | Recovery | HICKEY, SHANNON | 3/26/2019
TE75544C | Recovery | BRILLANTE, MARIA PAMELA | 3/26/2019
TE85350C | Recovery | DEMERS, SCOTT ANTHONY | 3/27/2019
TE59559C | Recovery | MCCORMICK BIOLOGICAL, INC | 3/27/2019
TE98083C | Recovery | WILLBRAND, SARAH J | 3/27/2019
TE095860 | Recovery | WUNDERLICH, VERONICA A | 3/28/2019
TE205609 | Recovery | KOBERNUS, LAWRENCE P | 3/28/2019
TE188803 | Recovery | USFWS—LODI FISH AND WILDLIFE OFFICE | 4/1/2019
TE795934 | Recovery | ICF JONES & STOKES, INC | 4/3/2019
TE02481D | Recovery | GODINHO, ANNA LANE | 4/3/2019
TE21700B | Recovery | GROSSO, DIANA J | 4/3/2019
TE085026 | Recovery | STEINMAN, JEFF | 4/4/2019
TE837308 | Recovery | KONECNY, JOHN K | 4/4/2019
TE11825D | Recovery | SKIMIN, AUTUMN | 4/5/2019
TE02480D | Recovery | BARGAS ENVIRONMENTAL CONSULTING | 4/5/2019
TE063427 | Recovery | POWELL, SARAH CHRISTINE | 4/5/2019
TE36109B | Recovery | GRIMALDO, LENNY F | 4/5/2019
TE21778B | Recovery | MARINE SCIENCE INSTITUTE | 4/5/2019
TE095868 | Recovery | KISNER, DAVID A | 4/16/2019
TE094893 | Recovery | SANTA BARBARA BOTANIC GARDEN | 4/16/2019
TE08086D | Recovery | SANTA CLARA VALLEY WATER DISTRICT | 4/17/2019
TE72013A | Recovery | DURAND, JOHN R | 4/17/2019
TE05665B | Recovery | ACHTER, LISA R | 4/17/2019
TE076257 | Recovery | COUNTY OF SAN LUIS OBISPO, PUBLIC WORKS DEPT | 4/22/2019
TE091857 | Recovery | DENISE DUFFY & ASSOCIATES, INC | 4/23/2019
TE802450 | Recovery | DAVENPORT, ARTHUR E | 4/24/2019
TE67555A | Recovery | SHAFFER, SHANNAN | 4/24/2019
TE19822D | Recovery | RICHARDSON, SARAH RENEE | 4/24/2019
TE806679 | Recovery | SPRING RIVERS ECOLOGICAL SCIENCES, LLC | 4/24/2019
TE53771B | Recovery | BERGMAN, ERIN JO | 4/25/2019
TE844852 | Recovery | U.S. GEOLOGICAL SURVEY | 4/25/2019
TE99108C | Recovery | MUZIO, FRANK M.S | 5/13/2019
TE037806 | Recovery | BUREAU OF LAND MANAGEMENT, BAKERSFIELD FIELD OFFICE | 5/13/2019
TE094318 | Recovery | VINJE, JESSICA S | 5/13/2019
TE022333 | Recovery | SACRAMENTO FISH AND WILDLIFE OFFICE | 5/14/2019
TE50466A | Recovery | HUMPHREY, ROSANNE L | 5/14/2019
TE217119 | Recovery | WINGERT, CARIE M | 5/14/2019
TE98470C | Recovery | BURLESON, MICHAEL REED | 5/16/2019
TE83958B | Recovery | ELIA, JARED C | 5/16/2019
TE142436 | Recovery | RENFRO, ERIC STEVEN | 5/16/2019
TE62868B | Recovery | THE KLAMATH TRIBES | 5/20/2019
TE40090B | Recovery | KNAPP, ROLAND A | 5/20/2019
TE43937B | Recovery | SLOAN, ROBERT L | 5/20/2019
TE35000A | Recovery | UNIVERSITY OF CALIFORNIA, DAVIS | 5/20/2019
TE098994 | Recovery | GOOCHER, KELLY J | 5/22/2019
TE93824C | Recovery | COUMOUTSO, JILL N | 5/23/2019
TE59586B | Recovery | DUFF, SCOTT M | 5/23/2019
TE13639B | Recovery | ENNIS, ANASTASIA G | 5/23/2019
TE829204 | Recovery | JONES, HARRY LEE | 5/30/2019
TE76732A | Recovery | KENDRICK, JENNIFER L | 5/30/2019
TE837309 | Recovery | MISENHELTER, MICHAEL DEAN | 5/30/2019
TE839213 | Recovery | MUTH, DAVID P | 5/30/2019
TE108683 | Recovery | PEARSON, AUSTIN J | 5/30/2019
TE02412D | Recovery | MOLIOO, TSUTOMU (TOMMY) | 6/6/2019
TE56726A | Recovery | KERN, MIKI A | 6/6/2019
TE88748B | Recovery | WALTHER, ERIKA LYNN | 6/14/2019
TE107075 | Recovery | POWELL, STEVEN D | 6/17/2019
TE118641 | Recovery | MCGRAW, JODI MARIE | 6/17/2019
TE45827D | Recovery | ANDERSON, KEMP M | 6/24/2019
TE039640 | Recovery | ALBERTS, KRISTOPHER R | 6/25/2019
TE01769B | Recovery | REEBS, JESSE LEE | 6/25/2019
TE46010D | Recovery | ZOOLOGICAL SOCIETY OF SAN DIEGO | 6/25/2019
TE837439 | Recovery | BRUYEA, GUY P | 6/26/2019
TE02630D | Recovery | NOVIK, CARINA CHIYE | 6/26/2019
TE46552A | Recovery | WASZ, KRISTEN MOBRAATEN | 6/26/2019
TE032713 | Recovery | CALIFORNIA DEPARTMENT OF TRANSPORTATION | 6/27/2019
TE041668 | Recovery | CLEVELAND NATIONAL FOREST | 7/1/2019
TE196118 | Recovery | NICESWANGER HICKMAN, JULIE A | 7/1/2019
TE091463 | Recovery | HONGOLA, STEVEN JACK | 7/2/2019
TE075112 | Recovery | CHATMAN, GREGORY K | 7/2/2019
TE218630 | Recovery | MENDEZ, IRENA M | 7/15/2019
TE020548 | Recovery | U.S. GEOLOGICAL SURVEY, WERC, SAN FRANCISCO BAY ESTUARY F.S | 7/16/2019
TE28700D | Recovery | TRAN-MABANTA, ANNA MY-TIEN THI | 7/17/2019
TE114928 | Recovery | HOWE, JOHN AUGUST | 7/17/2019
TE13636B | Recovery | HOFFMAN, MICHAELA L | 7/17/2019
TE63422B | Recovery | SPRING MOUNTAINS NATIONAL RECREATION AREA, U.S. FOREST SERVICE | 7/17/2019
TE060175 | Recovery | GONZALES, TERESA L | 7/18/2019
TE808241 | Recovery | SONOMA COUNTY WATER AGENCY | 7/18/2019
TE32232D | Recovery | SNYDER, SARA A | 7/18/2019
TE85618B | Recovery | BIOLOGICAL RESOURCES SERVICES LLC | 7/18/2019
TE37623D | Recovery | LUM, MARIA ANA | 7/23/2019
TE76006B | Recovery | ZOOLOGICAL SOCIETY OF SAN DIEGO | 7/23/2019
TE044520 | Recovery | SNIBBE, JENNI J.K | 7/24/2019
TE012973 | Recovery | ECORP CONSULTING, INC | 7/24/2019
TE20186A | Recovery | HUFFMAN, GARRETT RYAN | 7/25/2019
TE20280D | Recovery | CASHIN, STEPHANIE ANNE | 7/25/2019
TE06677C | Recovery | GAFFNEY, MERCEDES ELIZABETH | 8/1/2019
TE11271B | Recovery | HERON PACIFIC, LLC | 8/5/2019
TE60760B | Recovery | NEWFIELDS | 8/6/2019
TE50049D | Recovery | SHOEMAKER, KEVIN T | 8/6/2019
TE797267 | Recovery | TRIPLE HS, INCORPORATED | 8/9/2019
TE078657 | Recovery | MURPHY, AMANDA C | 8/12/2019
TE88331A | Recovery | WINKLEMAN, RYAN S | 8/13/2019
TE08087D | Recovery | WALKER, JONATHAN M | 8/15/2019
TE032198 | Recovery | GEI CONSULTANTS, INC | 8/15/2019
TE101151 | Recovery | BAILEY, ERIC (RICK) A | 8/19/2019
TE31349D | Recovery | BRIGGS LAB | 8/19/2019
TE63440B | Recovery | THOMPSON, DANIEL BOND | 8/20/2019
TE62708B | Recovery | HALTERMAN, MARY MURRELET | 8/22/2019
TE102310 | Recovery | DALLAS, MITCHELL C | 8/22/2019
TE67390A | Recovery | SMITH, BENJAMIN J | 8/23/2019
TE12069D | Recovery | LAYDEN, RYAN C | 8/23/2019
TE28754D | Recovery | GRANT, JILL M | 8/23/2019
TE98105C | Recovery | THOMPSON, SCOTT R | 8/23/2019
TE062125 | Recovery | BUREAU OF LAND MANAGEMENT—MOTHER LODE FIELD OFFICE | 8/26/2019
TE038716 | Recovery | WEGSCHEIDER, FRANK J | 8/26/2019
TE821229 | Recovery | CRAWFORD, DAVID G | 8/27/2019
TE027427 | Recovery | ALVAREZ, JEFF A | 8/27/2019
TE788133 | Recovery | SCHEIDT, VINCENT N | 8/28/2019
TE110382 | Recovery | EDENS, AVA ROSALES | 8/28/2019
TE40218B | Recovery | KUNNA, JOHN L | 8/28/2019
TE11840D | Recovery | WEINIK, JOSH BRETT | 8/28/2019
TE217402 | Recovery | LOVE, JULIE M | 8/28/2019
TE82155B | Recovery | PAGE, JOHANNA C | 8/29/2019
TE800291 | Recovery | WALLACE, ANNE C | 8/29/2019
TE09389A | Recovery | GIOLLI, MICHELLE E | 8/29/2019
TE027422 | Recovery | PITTMAN, BRIAN T | 8/29/2019
TE02538D | Recovery | WATTLEY, GREGORY A | 9/6/2019
TE081298 | Recovery | WEINBERG, DANIEL H | 9/9/2019
TE217401 | Recovery | SLAUGHTER, CRISTINA VICTORIA | 9/9/2019
TE101154 | Recovery | RISCHBIETER, DOUGLAS C | 9/9/2019
TE59924C | Recovery | LAND TRUST OF SANTA CRUZ COUNTY | 9/10/2019
TE31350D | Recovery | SALAMUNOVICH, TIMOTHY | 9/10/2019
TE86906B | Recovery | DOI-NPS-YOSEMITE NATIONAL PARK | 9/10/2019
TE094642 | Recovery | SHAFFER, HOWARD BRADLEY | 9/10/2019
TE37620D | Recovery | HERMAN, ANGELIQUE MICHELLE | 9/10/2019
TE827493 | Recovery | LEATHERMAN, BRIAN M | 9/11/2019
TE42300D | Recovery | CAMARA, KELLI M | 9/11/2019
TE37609D | Recovery | FANUCCHI, DEBI A | 9/11/2019
TE237061 | Recovery | CHASE, DANIEL A | 9/11/2019
TE60106B | Recovery | SOSA, ROLAND ANTOINE | 9/18/2019
TE09375A | Recovery | ELIASSEN, LAURA ANN | 9/18/2019
TE745541 | Recovery | SJM BIOLOGICAL CONSULTANTS INC | 9/20/2019
TE37607D | Recovery | GUTTILLA, DARCEE ANN | 9/20/2019
TE56034B | Recovery | HUANG, JOSEPH L | 9/23/2019
TE37611D | Recovery | KELLEHER, CHRISTINA SUSAN | 9/23/2019
TE17827A | Recovery | SUMMIT LAKE PAIUTE TRIBE | 9/25/2019
TE45776A | Recovery | COYLE, MATT P | 10/2/2019
TE42449D | Recovery | OREGON STATE UNIVERSITY | 10/3/2019
TE41182B | Recovery | POPE, KAREN L | 10/3/2019
TE98574C | Recovery | RIVER DESIGN GROUP, INC | 10/4/2019
TE068745 | Recovery | WILCOX, JEFFERY TAYLOR | 10/7/2019
TE017549 | Recovery | WHITFIELD, MARY J | 10/9/2019
TE054011 | Recovery | GREEN, JOHN F | 10/9/2019
TE797999 | Recovery | MERKEL & ASSOCIATES, INC | 10/18/2019
TE42850A | Recovery | CALIFORNIA DEPARTMENT OF WATER RESOURCES | 10/18/2019
TE98536C | Recovery | STILLWATER SCIENCES | 10/18/2019
TE100006 | Recovery | FREEMAN BIOLOGICAL | 10/18/2019
TE778195 | Recovery | HELIX ENVIRONMENTAL PLANNING, INC | 10/21/2019
TE14862C | Recovery | VU, JOSEPH THANH | 10/21/2019
TE092622 | Recovery | VALDES, GABRIEL A | 10/22/2019
TE049175 | Recovery | DICUS, MELANIE RENEE | 10/22/2019
TE031848 | Recovery | HENRY, RYAN N | 10/28/2019
TE42833A | Recovery | MAUNSELL, IAN E.D | 10/29/2019
TE817397 | Recovery | STORRER, JOHN R | 10/29/2019
TE122026 | Recovery | BAILEY, TRACY Y | 10/30/2019
TE82102B | Recovery | ZOOLOGICAL SOCIETY OF SAN DIEGO | 11/5/2019
TE811188 | Recovery | RESOURCE CONSERVATION DISTRICT OF THE SANTA MONICA MOUNTAINS | 11/5/2019
TE50992B | Recovery | GUTIERREZ, ANTONETTE T | 11/6/2019
TE114936 | Recovery | JOHNSON, BONNIE J | 11/6/2019
TE28612D | Recovery | BARRY, DEVIN DANIELLE | 11/6/2019
TE28366D | Recovery | DEE, TAYLOR A | 11/18/2019
TE55135D | Recovery | LOCKYER, ADAM T | 11/19/2019
TE793640 | Recovery | SMITH, JERRY J | 11/19/2019
TE062907 | Recovery | FORDE, ANDREW MCGINN | 11/29/2019
TE038701 | Recovery | PETERSON, BONNIE L | 12/5/2019
TE55035D | Recovery | CRAWFORD, ADAM F | 12/9/2019
TE37598D | Recovery | PARR, IVAN T | 12/10/2019
TE43714D | Recovery | JOHN MUIR NATIONAL HISTORIC SITE | 12/10/2019
TE64124A | Recovery | ROWE, SEAN PATRICK | 12/12/2019
TE50094D | Recovery | AXSOM, IAN J | 12/12/2019
TE64146A | Recovery | VALCARCEL, PATRICIA MARIE | 12/12/2019
TE204436 | Recovery | KISNER, JOHANNA M | 12/12/2019
TE027742 | Recovery | FISH CONSERVATION AND CULTURE LAB, UNIVERSITY OF CALIFORNIA—DAVIS | 12/17/2019
TE41346D | Recovery | GLOWACKI, STAN C | 12/27/2019
TE32290D | Recovery | SCAFFIDI, MICHAEL L | 12/27/2019
TE42302D | Recovery | CARBIENER, MICHAEL R | 12/27/2019
TE38853D | SHA | HART, FORREST BLAIR | 5/19/2019
TE21179D | SHA | EDEN, JENNIFER | 6/17/2019
TE154024 | SHA | 93-129 LTD | 8/27/2019
TE21176D | SHA | RPH COMPTHCHE PROPERTIES | 8/30/2019

Availability of Documents

You may request copies of the Federal Register documents publishing the receipt of applications for these permits from the office that issued the permit (see contact information above). Documents and other information submitted with these applications are available for review subject to the requirements of the Privacy Act (5 U.S.C. 552a) and Freedom of Information Act (5 U.S.C. 552), by any party who submits a written request for a copy of such documents.

Authority

We provide this notice under the authority of section 10 of the ESA (16 U.S.C. 1531 et seq.).

Gary Frazer,
Assistant Director for Ecological Services.

[FR Doc. 2020-09176 Filed 4-29-20; 8:45 am]

BILLING CODE 4333-15-P